FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on January 9, 2002 (67 FR 1217) of the regular meeting of the Farm Credit Administration Board (Board) scheduled for January 10, 2002. This notice is to amend the agenda by moving an item from the open session to the closed session of that meeting.

ADDRESSES: Farm Credit Administration, 1501 Farm Credit Drive, McLean, Virginia 22102-5090.

FOR FURTHER INFORMATION CONTACT: Kelly Mikel Williams, Secretary to the Farm Credit Administration Board, (703) 883-4025, TDD (703) 883-4444.

SUPPLEMENTARY INFORMATION: Parts of this meeting of the Board were open to the public (limited space available), and parts of this meeting were closed to the public. In order to increase the accessibility to Board meetings, persons requiring assistance should make arrangements in advance. The agenda for January 10, 2002, is amended by moving an item to the closed session to read as follows:

Closed Session*

• 2001 Financial Statement Audit Report

* Session Closed—Exempt pursuant to 5 U.S.C. 552b(c)(8) and (9).

Dated: January 10, 2002.
Kelly Mikel Williams,
Secretary, Farm Credit Administration Board.

[FR Doc. 02-1067 Filed 1-11-02; 10:58 am]

BILLING CODE 6705-01-P